DEPARTMENT OF COMMERCE

[Docket No.: 150403337-5517-02]

Privacy Act New System of Records

AGENCY: Office of Inspector General (OIG), Department of Commerce (DOC).

ACTION: Notice; Commerce/Department-12, OIG Investigative Records.

SUMMARY: The Department of Commerce (Commerce) publishes this notice to announce the effective date of a Privacy Act System of Records entitled Commerce/Department-12, OIG Investigative Records.

The notice of proposed amendment to this system of records was published in the Federal Register on May 7, 2015.

DATES: The system of records becomes effective on June 18, 2015.

ADDRESSES: For a copy of the system of records please mail requests to the OIG Office of Counsel, Room 7896, U.S. Department of Commerce, 1401 Constitution Avenue NW., Washington, DC 20230; by email to OIGCounsel@oig.doc.gov; or by facsimile to (202) 501-7335.

FOR FURTHER INFORMATION CONTACT: The OIG Office of Counsel, Room 7896, U.S. Department of Commerce, 1401 Constitution Avenue NW., Washington, DC 20230; by email to OIGCounsel@oig.doc.gov; or by facsimile to (202) 501-7335.

SUPPLEMENTARY INFORMATION: On May 7, 2015, the Department of Commerce published and requested comments on a proposed Privacy Act System of Records entitled Commerce/Department-12, OIG Investigative Records (80 FR 26217). No comments were received in response to the request for comments. By this notice, the Department is adopting the proposed system as final without changes effective June 18, 2015.

Dated: June 15, 2015.
Brenda Dolan,
Freedom of Information and Privacy Act Officer, U.S. Department of Commerce.

[FR Doc. 2015-15020 Filed 6-17-15; 8:45 am]

BILLING CODE 3510-55-P